DEPARTMENT OF THE TREASURY

Submission for OMB Review; Comment Request

August 26, 2013.

The Department of the Treasury will submit the following information collection requests to the Office of Management and Budget (OMB) for review and clearance in accordance with the Paperwork Reduction Act of 1995, Public Law 104-13, on or after the date of publication of this notice.

DATES: Comments should be received on or before September 30, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0085.

Type of Review: Revision of a currently approved collection.

Title: Principal Place of Business on Beer Labels (TTB REC 5130/5).

Abstract: TTB regulations permit domestic brewers who operate more than one brewery to show as their address on labels and kegs of beer, their “principal place of business” address. This label option may be used in lieu of showing the actual place of production on the label or of listing all of the brewer's locations on the label.

Affected Public: Private Sector: Businesses or other for-profits.

Estimated Annual Burden Hours: 1.

OMB Number: 1513-0124.

Type of Review: Extension without change of a currently approved collection.

Title: Surveys for Applications, Permits Online (PONL), Formulas Online (FONL), and COLAs (Generic).

Abstract: In an ongoing effort to improve customer service, TTB surveys its customers and keeps track of our progress. The surveys help TTB identify potential needs, problems, and opportunities for improvement in our applications processes; and also gather data on the industry member's experience with our electronic systems.

Affected Public: Private Sector: Businesses or other for-profits.

Estimated Total Burden Hours: 53,000.

OMB Number: 1513-0125.

Type of Review: Revision of a currently approved collection.

Title: Distilled Spirits Bond.

Form: TTB 5110.56.

Abstract: TTB F 5110.56 is used by proprietors of Distilled Spirits Plants (DSPs) and Alcohol Fuel Plants (AFPs) to file bond coverage with TTB. Using this form, these proprietors may file coverage and/or withdraw coverage for one plant or multiple plants. With this form proprietors of DSPs may also provide operations coverage for adjacent wine cellars. The bond may be secured through a surety company or it may be secured with collateral (cash, Treasury Bonds or Treasury Notes). The bond protects the revenue by ensuring adequate assets are available to pay tax liabilities.

Affected Public: Private Sector: Businesses or other for-profits.

Estimated Annual Burden Hours: 1,000.

Dawn D. Wolfgang,
Treasury PRA Clearance Officer.

[FR Doc. 2013-21089 Filed 8-28-13; 8:45 am]

BILLING CODE 4810-31-P